FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than July 13, 2007.

A. Federal Reserve Bank of Chicago (Burl Thornton, Assistant Vice President) 230 South LaSalle Street, Chicago, Illinois 60690-1414:

1. Inland Bancorp Holding Company and Inland Financial Acquisitions, Inc., both of Oak Brook, Illinois; to acquire 100 percent of the voting shares of Amerimark Financial Corporation, Countryside, Illinois, and thereby indirectly acquire Amerimark Bank, Villa Park, Illinois.In connection with this application, Inland Financial Acquisitions, Inc., Oak Brook, Illinois, has applied to become a bank holding company by acquiring 100 percent of the voting shares of Amerimark Financial Corporation, Countryside, Illinois, and Amerimark Bank, Villa Park, Illinois.

B. Federal Reserve Bank of St. Louis (Glenda Wilson, Community Affairs Officer) 411 Locust Street, St. Louis, Missouri 63166-2034:

1. Mercantile Bancorp, Inc., Quincy, Illinois; to acquire 100 percent of the voting shares of HNB Financial Services, Inc., Hannibal, Missouri, and thereby indirectly acquire HNB National Bank, Hannibal, Missouri.

C. Federal Reserve Bank of Dallas (W. Arthur Tribble, Vice President) 2200 North Pearl Street, Dallas, Texas 75201-2272:

1. TTC Holdings, Inc., San Antonio, Texas, and TTC Holding of Delaware, Inc., Wilmington, Delaware; to become a bank holding company by acquiring 100 percent of the voting shares of The Trust Company, San Antonio, Texas.TTC Holdings, Inc., San Antonio, Texas and TTC Holdings of Delaware, Inc., Wilmington, Delaware also have applied to engage in securities brokerage activities through Presidio Financial Services, Inc., San Antonio, Texas, pursuant to section 225.28(b)(7)(i) of Regulation Y.

Board of Governors of the Federal Reserve System, June 13, 2007.
Robert deV. Frierson,
Deputy Secretary of the Board.

[FR Doc. E7-11692 Filed 6-15-07; 8:45 am]

BILLING CODE 6210-01-S